DEPARTMENT OF HOUSING AND URBAN DEVELOPMENT

[Docket No. FR-7024-N-57]

30-Day Notice of Proposed Information Collection: Strategies for Removing the Regulatory Impediments to the Financing and Siting of Factory-Built Housing in American Communities OMB Control No. 2528-NEW

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: January 19, 2021.

ADDRESSES: Interested persons are invited to submit comments regarding this proposal. Comments should refer to the proposal by name and/or OMB Control Number and should be sent to: HUD Desk Officer, Office of Management and Budget, New Executive Office Building, Washington, DC 20503; fax:202-395-5806, Email: OIRA Submission@omb.eop.gov.

FOR FURTHER INFORMATION CONTACT: Anna P. Guido, Reports Management Officer, QMAC, Department of Housing and Urban Development, 451 7th Street, SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on February 14, 2020 at 85 FR 8604.

A. Overview of Information Collection

Title of Information Collection: Strategies for Removing the Regulatory Impediments to the Financing and Siting of Factory-Built Housing in American Communities.

OMB Approval Number: 2528-New.

Type of Request: New.

Form Number: N/A.

Description of the need for the information and proposed use: To assess the cost-effectiveness of factory-built housing as a potential affordable housing option in urban and suburban communities, HUD seeks to better understand the regulatory barriers preventing or limiting the use of factory-built housing. This study is framed by the general research question: What are the main drivers or barriers to the financing, siting and development of factory-built housing systems in various communities? A significant portion of the work of this study will involve identifying the types of barriers, their potential impact (or stringency), and their use in various communities. This process will involve research on several different communities in order to develop a typology of different barriers, catalog the community contexts where different barriers are more prevalent, and develop opportunity cost estimates of different barriers in different contexts. Information will be collected online and by telephone from local land use planning officials and manufacturers and dealers of factory-built housing to help determine the extent to which regulatory barriers limit the development of factory-built housing systems as an affordable housing option.

Information collection | Number of respondents | Frequency of response | Responses per annum | Burden hour per response | Annual burden hours | Hourly cost per response | Cost
Outreach Efforts | 90.00 | 1.00 | 90.00 | 0.21 | 18.90 | $36.65 | $692.69
In-Depth Interviews | 30.00 | 1.00 | 30.00 | 0.75 | 22.50 | $36.65 | $824.63
In-Depth Interviews (Manufacturers/Dealers) | 5.00 | 1.00 | 5.00 | 0.75 | 3.75 | $59.56 | $223.35
Total | 125.00 | 1.00 | 125.00 | 0.36 | 45.15 | $38.55 | $1,740.67

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of

information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Anna P. Guido,
Department Reports Management Officer, Office of the Chief Information Officer.

[FR Doc. 2020-27924 Filed 12-17-20; 8:45 am]

BILLING CODE 4210-67-P